DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for MAF & TIGER Updating Activities.

Form Number(s): Will vary by activity.

Agency Approval Number: 0607-0809.

Type of Request: Revision of a currently approved collection.

Burden: 14,290 hours.

Number of Respondents: 849,750.

Average Hours Per Response: 1 minute.

Needs and Uses: The Census Bureau requests approval from the Office of Management and Budget (OMB) for an extension of the generic clearance for a number of activities it plans to conduct to update its Master Address File (MAF) and maintain the linkage between the MAF and the Topologically Integrated Geographic Encoding and Referencing (TIGER) database of address ranges and associated geographic information. The Census Bureau plans to use the MAF for post-Census 2000 evaluations, various pre-2010 census tests, and as a sampling frame for the American Community Survey and our other demographic current surveys. In the past, the Census Bureau has built a new address list for each decennial census. The MAF built during Census 2000 is meant to be kept current thereafter, eliminating the need to build a completely new address list for future censuses and surveys. The TIGER is a geographic system that maps the entire country in Census Blocks with applicable address range of living quarter location information. Linking MAF and TIGER allows us to assign each address to the appropriate Census Block, produce maps as needed and publish results at the appropriate level of geographic detail.

The generic clearance for the past three years has proved to be very beneficial to the Census Bureau. The generic clearance allowed us to focus our limited resources on actual operational planning and development of procedures. This extension will be especially beneficial over the upcoming three years by allowing us to focus on the other work involved in improving new procedures for 2010, and keeping the MAF current.

We will follow the protocol of past generic clearances: we will send a letter to OMB at least two weeks before the planned start of each activity that gives more exact details, examples of forms, and final estimates of respondent burden. We also will file a year-end summary with OMB after the close of each fiscal year giving results of each activity conducted.

The following sections describe the categories of activities to be included under the clearance. The Census Bureau has conducted these activities (or similar ones) previously and the respondent burden remains relatively unchanged from one time to another.

Demographic Area Address Listing (DAAL)

The Demographic Area Address Listing (DAAL) program encompasses the geographic area updates for the Community Address Updating System (CAUS) and the area and group quarters frame listings for many ongoing demographic surveys (the Current Population Survey, the Consumer Expenditures Survey, etc.). The CAUS program was designed to address quality concerns relating to areas with high concentrations of noncity-style addresses, and to provide a rural counterpart to the update of city-style addresses the MAF will receive from the U.S. Postal Services's Delivery Sequence File. The ongoing demographic surveys, as part of the 2000 Sample Redesign Program, plan to use the MAF as one of several sources of addresses from which to select their samples. In addition to the area and group quarters frame listings, the demographic surveys will also list blocks via the DAAL program for their Frame Assessment for Current Household Surveys (FACHS) evaluations. The DAAL program is a cooperative effort across many divisions at the Census Bureau; it includes automated listing software, systems, and procedures that will allow us to conduct listing operations in a dependent manner based on information contained in the MAF.

The DAAL operations will be conducted on an ongoing basis in potentially any county across the country. Field Representatives (FRs) will canvass selected Census tabulation blocks to improve the address list in areas where substantial address changes have occurred that have not been added to the MAF through regular update operations, and/or in blocks in the area or group quarters frame sample for the demographic surveys. FRs will update existing address information, and when necessary, contact individuals, to collect accurate location and mailing address information. In general, contact will occur only when the FR is adding to the address list, and the individual's address is not posted or visible to the FR. If the occupants of these households are not at home, the FR may attempt to contact a neighbor to determine the best time to find the occupants at home and/or to obtain the correct address information.

DAAL is an ongoing operation. Listing assignments are distributed quarterly with the work conducted throughout the time period. We expect that DAAL listings will be conducted throughout the entire time period of the extension.

Dress Rehearsal Address Canvassing

An Address Canvassing operation will take place as part of the 2008 Census Dress Rehearsal. The operation will take place between May 7, 2007 and June 26, 2007. The operation will be a standard address canvassing operation where census listers will canvass specified blocks and conduct brief interviews to verify or update address information against address information on the Census Bureau's address lists and maps. Listers will enter an address status for every address based on what they found out during the visit. Listers will also visit addresses not listed on our address lists and add them. They will record address information and address statuses on the address lists that reside on the hand held computer (HHC). Sites for the 2008 Census Dress Rehearsal will be San Joaquin County, California and Fayetteville and Eastern North Carolina.

Decennial Address Canvassing

An Address Canvassing operation will take place as part of the 2010 Decennial Census. The operation will take place between April 13, 2009 and May 2009. The operation will be a standard address canvassing operation where census listers will canvass specified blocks and conduct brief interviews to verify or update address information against address information on the Census Bureau's address lists and maps. Listers will enter an address status for every address based on what they found out during the visit. Listers will also visit addresses not listed on our address lists and add them. They will record address information and address statuses on the address lists that reside on the hand held computer (HHC). Sites for the 2010 Decennial Census will be nation wide.

Dress Rehearsal Update/Leave

The U.S. Census Bureau will conduct the Update/Leave operation, March 3, 2008 through April 7, 2008 in the 2008 Census Dress Rehearsal sites of San Joaquin County, California and Fayetteville and Eastern North Carolina. Update/Leave is a field operation for the 2008 Census Dress Rehearsal. The results of this test will enable the Census Bureau to identify, refine, and improve our address collection procedures for a more cost-effective and accurate decennial census.

Update/Leave requires Listers to update the Census Bureau's address list and maps, and to leave a census questionnaire at each housing unit. Listers verify and update the addresses on the address list and their locations on census maps to ensure that they are as current, complete and accurate as possible. Listers will use Form DX-105A (U/L), Update/Leave Address Listing Pages to verify, and update addresses currently in the Census Bureau's Update/Leave universe. Listers will enter an action code for every address based on what they found out. Listers will visit addresses not already listed and add them to our address list. To add addresses, Listers will use Form DX-105B (U/L), Update/Leave Add Pages.

If the occupants of these living quarters are not at home the Listers will leave a questionnaire at the household in a plastic bag, then attempt to contact neighbors in order to obtain the correct address information. If the Lister is unable to contact anyone about an address, they will use their own judgment, and information from surrounding addresses to enter the address information. Quality Control (QC) for Update/Leave consists of an initial observation, a dependent quality control check in the field and an office review of completed work.

Decennial Update/Leave

The U.S. Census Bureau will conduct the Update/Leave operation in the 2010 Decennial Census. Update/Leave requires Listers to update the Census Bureau's address list and maps, and to leave a census questionnaire at each housing unit. Listers verify and update the addresses on the address list and their locations on census maps to ensure that they are as current, complete and accurate as possible. Listers will use Form DX-105A (U/L), Update/Leave Address Listing Pages to verify, and update addresses currently in the Census Bureau's Update/Leave universe. Listers will enter an action code for every address based on what they found out. Listers will visit addresses not already listed and add them to our address list. To add addresses, Listers will use Form DX-105B (U/L), Update/Leave Add Pages.

If the occupants of these living quarters are not at home the Listers will leave a questionnaire at the household in a plastic bag, then attempt to contact neighbors in order to obtain the correct address information. If the Lister is unable to contact anyone about an address, they will use their own judgment, and information from surrounding addresses to enter the address information. Quality Control (QC) for Update/Leave consist of an initial observation, a dependent quality control check in the field and an office review of completed work.

Dress Rehearsal Group Quarters Validation (GQV)

The U.S. Census Bureau will conduct the Group Quarters Validation Operation from September 17—October 24, 2007 at the 2008 Census Dress Rehearsal sites of San Joaquin County, California and Fayetteville and Eastern North Carolina. The GQV operation, which supports the Census Bureau's strategic goal of developing methodologies for compiling a complete and accurate MAF for the 2010 Census, is designed to verify and classify addresses identified as other living quarters during the 2006 Address Canvassing operation. The addresses will be classified as Group Quarters (GQ), Housing Unit (HU), or “not a living quarters”. If the address is a GQ, the lister will label it with the correct type code, (e.g. as a college residence hall or skilled nursing unit). Listers will use the DX-351 GQV Questionnaire to list address information and type codes for each GQ in their workload. GQV creates the universe for a follow-up operation known as Group Quarters Enumeration (GQE), in which we count the residents of identified GQs.

Decennial Group Quarters Validation

The U.S. Census Bureau will conduct the Group Quarters Validation Operation as part of the 2010 Decennial Census. The operation will take place between Sept 11, 2009—October 22, 2009. The GQV operation verifies and classifies addresses identified as other living quarters during the Decennial Address Canvassing operation. The addresses will be classified as Group Quarters (GQ), Housing Unit (HU), or “not a living quarters”. If the address is a GQ, the lister will label it with the correct type code, (e.g. as a college residence hall or skilled nursing unit). Listers will use the DX-351 GQV Questionnaire to list address information and type codes for each GQ in their workload. GQV creates the universe for a follow-up operation known as Group Quarters Enumeration (GQE), in which we count the residents of identified GQs.

The list above is not exhaustive of all activities, which may be performed under this generic clearance. We will follow the approved procedure when submitting any additional activities not specifically listed here.

Affected Public: Individuals or households.

Frequency: One-time.

Respondent's Obligation: Mandatory.

Legal Authority: Title 13 U.S.C., Sections 141 and 193.

OMB Desk Officer: Brian Harris-Kojetin, (202) 395-7314.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: January 31, 2007.
Gwellnar Banks,
Management Analyst, Office of the Chief Information Officer.

[FR Doc. E7-1819 Filed 2-5-07; 8:45 am]

BILLING CODE 3510-07-P